DEPARTMENT OF ENERGY

Federal Energy Regulatory Commission

[Docket No. EL08-72-000]

NRG Energy, Inc., Complainants, v. Entergy Services, Inc., Respondent; Notice of Complaint

June 30, 2008.

Take notice that on June 27, 2008, NRG Energy, Inc. and its affiliated companies, (collectively, NRG) pursuant to sections 206 and 306 of the Federal Power Act, 16 U.S.C. 824e and 825e (2000) and Rules 206 and 306 of the Commission's Rules of Practice and Procedure, 18 CFR 385.206 and 386.306 (2008), submit this complaint against Entergy Services, Inc. (Entergy), alleging that Entergy's May 30, 2008 annual transmission rate filing includes bonus compensation paid to Entergy employees that should not be passed on to it transmission service customers.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of Respondent's answer, protests and interventions in lieu of paper using the “eFiling” link at http://www.ferc.gov. Persons unable to file electronically should submit an original and 14 copies of the answer, protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 17, 2008.

Kimberly D. Bose,
Secretary.

[FR Doc. E8-15425 Filed 7-7-08; 8:45 am]

BILLING CODE 6717-01-P